DEPARTMENT OF THE INTERIOR

Fish and Wildlife Service

50 CFR Part 17

[Docket No. FWS-R4-ES-2020-0109; FF09E22000 FXES11130900000 223]

RIN 1018-BC98

Endangered and Threatened Wildlife and Plants; Removal of 23 Extinct Species From the Lists of Endangered and Threatened Wildlife and Plants; Ivory-Billed Woodpecker

AGENCY: Fish and Wildlife Service, Interior.

ACTION: Proposed rule; reopening of comment period and announcement of public hearing.

SUMMARY: We, the U.S. Fish and Wildlife Service (Service), are reopening the public comment period on our September 30, 2021, proposal to remove the ivory-billed woodpecker from the Federal Lists of Endangered and Threatened Wildlife and Plants (List) due to extinction. We are taking this action to conduct a public hearing on the proposal to remove the ivory-billed woodpecker from the List and to allow all interested parties additional time to comment on the proposed rule to delist the ivory-billed woodpecker (docket number: FWS-R4-ES-2020-0109). Comments previously submitted need not be resubmitted and will be fully considered in preparation of the final rule. This comment period reopening is only for the ivory-billed woodpecker proposed delisting; we are not taking any comments in regard to the other 22 species proposed in the same rule, for which the comment periods closed on November 29, 2021.

DATES:

Written comments: The comment period on the proposed rule that published September 30, 2021 (86 FR 54298), is reopened only for the ivory-billed woodpecker proposed delisting. We will accept comments on the ivory-billed woodpecker proposed delisting that are received or postmarked on or before February 10, 2022. Please note that comments submitted electronically using the Federal eRulemaking Portal (see ADDRESSES, below) must be received by 11:59 p.m. Eastern Time on the closing date, and comments submitted by U.S. mail must be postmarked by that date, to ensure consideration.

Public hearing: On January 26, 2021, we will hold a public hearing on the ivory-billed woodpecker proposed delisting from 6:00 to 7:30 p.m., Central Time, using the Zoom platform (for more information, see Public Hearing, below).

ADDRESSES:

Availability of documents: You may obtain copies of the September 30, 2021, proposed rule and associated documents on the internet at https://www.regulations.gov under Docket No. FWS-R4-ES-2020-0109.

Written comments: You may submit written comments by one of the following methods:

(1) Electronically: Go to the Federal eRulemaking Portal: https://www.regulations.gov. In the Search box, enter the RIN or docket number, which are displayed in the initial headings of this document. For best results, do not copy and paste the RIN or docket number; instead, type the RIN or docket number into the Search box using hyphens. Then, click on the Search button. On the resulting page, in the Search panel on the left side of the screen, under the Document Type heading, click on the Proposed Rule box to locate this document. You may submit a comment by clicking on “Comment.” Please ensure you have located the correct document before submitting your comments.

(2) By hard copy: Submit by U.S. mail to: Public Comments Processing, Attn: FWS-R4-ES-2020-0109, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

Public hearing: The public hearing will be held virtually using the Zoom platform. See Public Hearing, below, for more information.

FOR FURTHER INFORMATION CONTACT: Elizabeth Maclin, Branch of Delisting and Foreign Species, Ecological Services Program, U.S. Fish and Wildlife Service, 5275 Leesburg Pike, MS: ES, Falls Church, VA 22041; telephone 703-358-2646. If you use a telecommunications device for the deaf, call the Federal Relay Service at 800-877-8339.

SUPPLEMENTARY INFORMATION:

Background

On September 30, 2021, we published a proposed rule (86 FR 54298) to remove 23 species from the Federal Lists of Endangered and Threatened Wildlife and Plants due to extinction. The proposed rule opened a 60-day public comment period, ending November 29, 2021. During the open comment period, we received a request for a public hearing on the proposal to remove the ivory-billed woodpecker from the List. Therefore, we are announcing a public hearing and a reopening of the comment period (see DATES, above) to allow the public an additional opportunity to provide comments on the proposed rule to delist the ivory-billed woodpecker.

For a description of previous Federal actions concerning the ivory-billed woodpecker and information on the types of comments that would be helpful to us in promulgating this rulemaking action, please refer to the September 30, 2021, proposed rule (86 FR 54298).

Public Hearing

We are holding a public hearing to accept comments on the proposed rule to delist the ivory-billed woodpecker on the date and at the time listed in DATES. We are holding the public hearing via the Zoom online video platform and via teleconference so that participants can attend remotely. For security purposes, registration is required. All participants must register in order to listen and view the hearing via Zoom, listen to the hearing by telephone, or provide oral public comments at the hearing by Zoom or telephone. For information on how to register, or if technical problems occur joining Zoom on the day of the hearing, visit https://www.fws.gov/service-proposes-to-delist-ivory-billed-woodpecker. Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the September 30, 2021, proposed rule to remove the ivory-billed woodpecker from the List due to extinction (86 FR 54298). The public hearing will not be an opportunity for dialogue with the Service, but rather a forum for accepting formal verbal testimony. In the event there is a large attendance, the time allotted for oral statements may be limited. Therefore, anyone wishing to make an oral statement at the public hearing for the record is encouraged to provide a prepared written copy of their statement to us through the Federal eRulemaking Portal or U.S. mail (see ADDRESSES, above). There are no limits on the length of written comments submitted to us. Anyone wishing to make an oral statement at the public hearing must register before the hearing (https://www.fws.gov/service-proposes-to-delist-ivory-billed-woodpecker). The use of a virtual public hearing is consistent with our regulations at 50 CFR 424.16(c)(3).

Reasonable Accommodation

The Service is committed to providing access to the public hearing for all participants. Closed captioning will be available during the public hearing. Further, a full audio and video recording and transcript of the public hearing will be posted online at https://www.fws.gov/service-proposes-to-delist-ivory-billed-woodpecker after the hearing. Participants will also have access to live audio during the public hearing via their telephone or computer speakers. Persons with disabilities requiring reasonable accommodations to participate in the meeting and/or hearing should contact the person listed under FOR FURTHER INFORMATION CONTACT at least 5 business days prior to the date of the meeting and hearing to help ensure availability. An accessible version of the Service's public informational meeting presentation will also be posted online at https://www.fws.gov/service-proposes-to-delist-ivory-billed-woodpecker prior to the meeting and hearing (see DATES, above). See https://www.fws.gov/service-proposes-to-delist-ivory-billed-woodpecker for more information about reasonable accommodation.

Public Comments

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov.

Authors

The primary authors of this document are the staff members of the Branch of Delisting and Foreign Species, Ecological Services Program.

Authority

The authority for this action is the Endangered Species Act of 1973, as amended (16 U.S.C. 1531 et seq.).

Martha Williams,
Principal Deputy Director, Exercising the Delegated Authority of the Director, U.S. Fish and Wildlife Service.

[FR Doc. 2022-00322 Filed 1-10-22; 8:45 am]

BILLING CODE 4333-15-P